DEPARTMENT OF HEALTH AND HUMAN SERVICES

National Institutes of Health

Notice of a Meeting of a Working Group of the NIH Blue Ribbon Panel

The purpose of this notice is to inform the public about a meeting of the NIH Blue Ribbon Panel to Advise on the Risk Assessment of the National Emerging Infectious Diseases Laboratories at Boston University Medical Center.

The meeting will be held Tuesday, May 5, 2009 at the National Institutes of Health, Building 31, 31 Center Drive, Floor 6C, Room 6, Bethesda, MD 20892 from approximately 9 a.m. to 12 p.m. The purpose of the meeting is for the Panel to review and discuss progress on the supplementary risk assessment being conducted for the Boston University NEIDL. The National Research Council Committee on Technical Input will participate in this discussion and provide its views.

Public comment will begin at approximately 11:30 a.m. In the event that time does not allow for all those interested to present oral comments, anyone may file written comments by sending them to the address below. Comments should include the name, address, telephone number and when applicable, the business or professional affiliation of the commenter.

The meeting will be open to the public, with attendance limited to space available. There will be a live Web cast of the meeting which can be accessed at http://nihblueribbonpanel-bumc-neidl.od.nih.gov/. Individuals who plan to attend and need special assistance, such as sign language interpretation or other reasonable accommodations, should notify the Contact Person listed below in advance of the meeting.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

A draft agenda and slides for the meeting may be obtained by connecting to http://nihblueribbonpanel-bumc-neidl.od.nih.gov/. For additional information concerning this meeting, contact Ms. Laurie Lewallen, Advisory Committee Coordinator, Office of Biotechnology Activities, Office of Science Policy, Office of the Director, National Institutes of Health, 6705 Rockledge Drive, Room 750, Bethesda, MD 20892-7985; telephone 301-496-9838; e-mail lewallenl@od.nih.gov.

Dated: April 2, 2009.
Amy P. Patterson,
Acting Director, Office of Science Policy, National Institutes of Health.

[FR Doc. E9-8009 Filed 4-8-09; 8:45 am]

BILLING CODE 4140-01-P